ENVIRONMENTAL PROTECTION AGENCY

[FRL-7464-3]

Clean Water Act Section 303(d): Final Agency Action on 1 Total Maximum Daily Load (TMDL)

AGENCY: Environmental Protection Agency (EPA).

ACTION: Notice of availability.

SUMMARY: This notice announces final agency action on 1 TMDL prepared by EPA Region 6 for waters listed in Louisiana's Ouachita river basin, under section 303(d) of the Clean Water Act (CWA). Documents from the administrative record file for the 1 TMDL, including TMDL calculations and responses to comments, may be viewed at http://www.epa.gov/region6/water/tmdl.htm. The administrative record file may be examined by calling or writing Ms. Ellen Caldwell at the following address. Please contact Ms. Caldwell to schedule an inspection.

FOR FURTHER INFORMATION CONTACT: Ellen Caldwell, Environmental Protection Specialist, Water Quality Protection Division, U.S. EPA Region 6, 1445 Ross Avenue, Dallas, TX 75202-2733, (214) 665-7513.

SUPPLEMENTARY INFORMATION: In 1996, two Louisiana environmental groups, the Sierra Club and Louisiana Environmental Action Network (plaintiffs), filed a lawsuit in Federal Court against the EPA, styled Sierra Club, et al. v. Clifford et al., No. 96-0527, (E.D. La.). Among other claims, plaintiffs alleged that EPA failed to establish Louisiana TMDLs in a timely manner.

EPA Takes Final Agency Action on 1 TMDL

By this notice EPA is taking final agency action on the following 1 TMDL for waters located within the Ouachita river basin:

Subsegment | Waterbody name | Pollutant
081602 | Little River—From Bear Creek to Catahoula Lake (Scenic) | Mercury in fish tissue.

EPA requested the public to provide EPA with any significant data or information that may impact the 1 TMDL in Federal Register notice 67 FR 77994 (December 20, 2002). The comments received and EPA's response to comments may be found at http://www.epa.gov/region6/water/tmdl.htm.

Dated: February 28, 2003.
Oscar Ramirez, Jr.,
Acting Director, Water Quality Protection Division, Region 6.

[FR Doc. 03-5714 Filed 3-11-03; 8:45 am]

BILLING CODE 6560-50-P